DEPARTMENT OF THE INTERIOR

Fish and Wildlife Service

Availability of a Draft Recovery Plan for the Lake Erie Water Snake (Nerodia sipedon insularum) for Review and Comment

AGENCY: Fish and Wildlife Service, Interior.

ACTION: Notice of document availability.

SUMMARY: The U.S. Fish and Wildlife Service (Service) announces availability for public review of a draft recovery plan for the Lake Erie water snake (Nerodia sipedon insularum). This species is federally listed as threatened under the Endangered Species Act of 1973, as amended (Act) (16 U.S.C. 1531 et seq.) on the offshore islands and surrounding waters in the western basin of Lake Erie, Ohio. The Service solicits review and comment from the public on this draft plan.

DATES: Comments on the draft recovery plan received on or before August 18, 2003 will be considered by the Service.

ADDRESSES: Persons wishing to review the draft recovery plan may obtain a copy by contacting the Field Supervisor, Reynoldsburg Ohio Field Office, U.S. Fish and Wildlife Service, 6950 Americana Parkway, Suite H, Reynoldsburg, Ohio 43068-4127, telephone (614) 469-6923, email lewatersnake@fws.gov, or by accessing the Web site: http://midwest.fws.gov/Endangered. Copies of the draft recovery plan may also be viewed at four public libraries listed in SUPPLEMENTARY INFORMATION.

FOR FURTHER INFORMATION CONTACT: Ms. Megan Seymour at the above address, or telephone at (614) 469-6923, x16. TTY users may contact Ms. Seymour through the Federal Relay Service at (800) 877-8339.

SUPPLEMENTARY INFORMATION:

Background

Restoring an endangered or threatened animal or plant to the point where it is again a secure, self-sustaining member of its ecosystem is a primary goal of the Service's endangered species program. To help guide the recovery effort, the Service is working to prepare recovery plans for most of the federally threatened and endangered species native to the United States. Recovery plans describe actions considered necessary for conservation of the species, establish criteria which when met, would result in a determination that the species no longer needs the protection of the Act, and provide estimates of the time and cost for implementing the recovery measures needed.

The Act requires the development of recovery plans for listed species unless such a plan would not promote the conservation of a particular species. Section 4(f) of the Act, as amended in 1988, requires public notice and opportunity for public review and comment be provided during recovery plan development. The Service will consider all information presented during a public comment period prior to approval of each new or revised recovery plan. The Service and other Federal agencies will also take these comments into consideration in the course of implementing approved recovery plans.

Lake Erie water snakes on the offshore islands and surrounding waters of Lake Erie were listed as threatened on August 30, 1999. Water snakes found on the Ohio mainland and islands adjacent to the mainland are not protected by the threatened designation due to the likelihood that these snakes represent intermediate forms between the Lake Erie water snake and northern water snake. The Lake Erie water snake spends summers basking on the rocky shorelines of the limestone and dolomite islands in the western Lake Erie basin. Hibernation habitat for the snake is composed of areas inland from the shore, which typically have soil and rock substrates and consist of natural openings or fissures. Human-made structures such as crib docks and erosion control protection can provide suitable summer habitat, while old building foundations and drainage tiles may provide suitable hibernation habitat. The primary threats to the snake include both accidental and intentional human-induced mortality, and loss of suitable summer and hibernation habitat through development. Nine U.S. islands and seven Canadian islands currently provide year-round habitat for the snake, while two U.S. islands provide summer habitat only. The Lake Erie water snake has been extirpated from one U.S. island and two Canadian islands.

Recovery will be achieved and the species removed from the list of Threatened and Endangered Species when the following criteria are met: (1) A minimum of 5,555 adult snakes exists on nine U.S. islands combined for six or more consecutive years, including at least 900 snakes on Kelleys Island, 850 snakes on South Bass Island, 620 snakes on Middle Bass Island, and 410 snakes on North Bass Island, with the remaining snakes occurring on any of the nine islands; (2) a total of 7.4 km of shoreline habitat and 51 hectares of hibernation habitat distributed proportionately among the four largest U.S. islands are protected in perpetuity by a written agreement approved by Service; (3) objective analysis of public attitude indicates that human persecution is no longer a threat to the continued existence of the snake; and (4) accidental human-induced mortality no longer poses a significant threat to the population.

Library Locations

Copies of the documents can be obtained as indicated in the ADDRESSES section, and are also available for review at the following libraries:

1. Port Clinton Public Library, 310 Madison Street, Port Clinton, Ohio 43452.

2. Sandusky Library, 114 W. Adams Street, Sandusky, Ohio 44870.

3. Sandusky Library, 528 Division Street, Kelleys Island, Ohio 43438.

4. South Bass Island Library, Put-In-Bay School, Catawba Avenue, Put-In-Bay, Ohio 43456.

Public Comments Solicited

The Service solicits written comments on the recovery plan described. All comments received by the date specified will be considered prior to approval of the plan. Written comments and materials regarding the plan should be addressed to the Field Supervisor (see ADDRESSES section). Comments and materials received will be available, by appointment, for public inspection during normal business hours, at the above address.

Authority: The authority for this action is section 4(f) of the Endangered Species Act, 16 U.S.C. 1533(f).

Dated: May 23, 2003.
Charles M. Wooley,
Assistant Regional Director, Ecological Services.

[FR Doc. 03-15456 Filed 6-18-03; 8:45 am]

BILLING CODE 4310-55-P